DEPARTMENT OF LABOR

Employment and Training Administration

[TA-W-58,177]

Rexnord Disc Coupling Operation; Coupling Division Warren, PA; Notice of Negative Determination on Reconsideration

On January 18, 2006, the Department issued an Affirmative Determination Regarding Application for Reconsideration for the workers and former workers of the subject firm. The Department's notice was published in the Federal Register on January 30, 2006 (71 FR 4938).

The petition for the workers of Rexnord Disc Coupling Operation, Coupling Division, Warren, Pennsylvania was denied because sales and production declined from 2003 through 2004, and January through October 2005 over the corresponding 2004 period. The initial determination also stated that productions shifted from the subject facility to another production facility in Alabama.

In the request for reconsideration, the International Association of Machinists and Aerospace Workers, Local Lodge #2304, alleged that the subject firm increased imports, is shifting production to China and importing the finished product.

During the reconsideration investigation, the Department contacted both the union representative and a company official to discuss the union's allegations.

According to the union representative, the workers produced flexible couplings and the subject company was importing coupling components. The imported components were either assembled at the subject facility into completed flexible couplings or shipped to other domestic plants for assembly into flexible couplings. The subject facility closed in December 2005 when operations were consolidated with an affiliated coupling production plant in Auburn, Alabama.

Subsequent conversations with the company official confirmed that coupling components, and not finished flexible couplings, were imported and that operations at the Warren, Pennsylvania plant were consolidated with the Auburn, Alabama facility.

In order to establish import impact, the Department must consider imports that are like or directly competitive with those produced at the subject firm. In the case at hand, the Department must consider imports of article which are like or directly competitive with flexible couplings produced at the subject company's Warren, Pennsylvania facility. Because coupling components are not like or directly competitive with finished flexible couplings, increased imports of coupling components cannot be the basis for Trade Adjustment Assistance certification for the subject worker group.

Conclusion

After review of the application and investigative findings, I conclude that there has been no error or misinterpretation of the law or of the facts which would justify reconsideration of the Department of Labor's prior decision. Accordingly, the application is denied.

Signed at Washington, DC this 13th day of February 2006.
Elliott S. Kushner,
Certifying Officer, Division of Trade Adjustment Assistance.

[FR Doc. E6-3067 Filed 3-2-06; 8:45 am]

BILLING CODE 4510-30-P